DEPARTMENT OF TRANSPORTATION

Federal Railroad Administration

Agency Information Collection Activities

AGENCY: Federal Railroad Administration, DOT.

ACTION: Notice of OMB approvals.

SUMMARY: In compliance with the Paperwork Reduction Act of 1995 (44 U.S.C. 3501 et seq.) and 5 CFR 1320.5(b), this notice announces that new information collections requirements (ICRs) listed below have been approved by the Office of Management and Budget (OMB). These new ICRs pertain to 49 CFR parts 222, 229, and 236. Additionally, FRA hereby announces that other ICRs listed below have been re-approved by the Office of Management and Budget (OMB). These ICRs pertain to Parts 214, 216, 229, 238, and 240. The OMB approval numbers, titles, and expiration dates are included herein under supplementary information.

FOR FURTHER INFORMATION CONTACT: Mr. Robert Brogan, Office of Planning and Evaluation Division, RRS-21, Federal Railroad Administration, 1120 Vermont Ave., NW., Mail Stop 17, Washington, DC 20590 (telephone: (202) 493-6292), or Victor Angelo, Office of Support Systems, RAD-20, Federal Railroad Administration, 1120 Vermont Ave., NW., Mail Stop 35, Washington, DC 20590 (telephone: (202) 493-6470). (These telephone numbers are not toll-free.)

SUPPLEMENTARY INFORMATION: The Paperwork Reduction Act of 1995 (PRA), Public Law No. 104-13, section 2, 109 Stat. 163 (1995) (codified as revised at 44 U.S.C. 3501-3520), and its implementing regulations, 5 CFR part 1320, require Federal agencies to display OMB control numbers and inform respondents of their legal significance once OMB approval is obtained. The following new FRA information collections were approved in the past nine months: (1) OMB No. 2130-0553, Positive Train Control (49 CFR 236) (Final Rule). The expiration date for this collection of information is August 31, 2008. (2) OMB No. 2130-0560, Use of Locomotive Horns at Highway-Rail Grade Crossings (49 CFR 222 and 229) (Final Rule). The expiration date for this collection of information is July 31, 2008. (3) OMB No. 2130-0004, Locomotive Safety Standards and Event Recorders (49 CFR 229) (Final Rule). The expiration date for this collection of information is August 31, 2008. (4) OMB No. 2130-0568, Emergency Order No. 24. The expiration date for this collection of information is March 31, 2006.

The following information collections were re-approved: (1) OMB No. 2130-0533, Qualifications For Locomotive Engineers (49 CFR part 240). The new expiration date for this information collection is August 31, 2008. (2) OMB No. 2130-0552, Locomotive Cab Sanitation Standards (49 CFR part 229). The new expiration date for this information collection is August 31, 2008. (3) OMB No. 2130-0517, Supplemental Qualifications Statement For Railroad Safety Inspector Applicants (Form FRA F 120). The new expiration date for this information collection is August 31, 2008. (4) OMB No. 2130-0539, Roadway Worker Protection: Roadway Maintenance Machines (49 CFR part 214) (Form FRA F 6180.119). The new expiration date for this information collection is August 31, 2008. (5) OMB No. 2130-0544, Passenger Equipment Safety Standards (Current Rule) (49 CFR parts 216 and 238). The new expiration date for this information collection is November 30, 2008.

Persons affected by the above referenced information collections are not required to respond to any collection of information unless it displays a currently valid OMB control number. These approvals by the Office of Management and Budget (OMB) certify that FRA has complied with the provisions of the Paperwork Reduction Act of 1995 (Pub. L. 104-13) and with 5 CFR 1320.5(b) by informing the public about OMB's approval of the information collection requirements of the above cited forms and regulations.

Authority: 44 U.S.C. 3501-3520.

Issued in Washington, DC on December 15, 2005.
D.J. Stadtler,
Director, Office of Budget, Federal Railroad Administration.

[FR Doc. E5-7568 Filed 12-19-05; 8:45 am]

BILLING CODE 4910-06-P